DEPARTMENT OF LABOR

Employment and Training Administration

[TA-W-59,936]

C-Tech Industries Inc., Calumet, MI; Notice of Termination of Investigation

Pursuant to Section 221 of the Trade Act of 1974, as amended, an investigation was initiated on August 22, 2006, in response to a petition filed by a company official on behalf of workers at C-Tech Industries Inc., Calumet, Michigan.

The petitioner has requested that the petition be withdrawn. Consequently, the investigation has been terminated.

Signed at Washington, DC, this 1st day of September, 2006.
Linda G. Poole,
Certifying Officer, Division of Trade Adjustment Assistance.

[FR Doc. E6-15080 Filed 9-12-06; 8:45 am]

BILLING CODE 4510-30-P